DEPARTMENT OF COMMERCE

International Trade Administration

[A-201-830]

Carbon and Certain Alloy Steel Wire Rod From Mexico: Preliminary Results and Partial Rescission of the Antidumping Duty Administrative Review; 2023-2024

AGENCY: Enforcement and Compliance, International Trade Administration, Department of Commerce.

SUMMARY: The U.S. Department of Commerce (Commerce) preliminarily determines that sales of carbon and certain alloy steel wire rod (wire rod) from Mexico were made at less than normal value during the period of review (POR), October 1, 2023, through September 30, 2024. Additionally, Commerce is rescinding this administrative review with respect to seven companies. We invite interested parties to comment on these preliminary results.

DATES: Applicable February 12, 2026.

FOR FURTHER INFORMATION CONTACT: Matthew Palmer, AD/CVD Operations, Office III, Enforcement and Compliance, International Trade Administration, U.S. Department of Commerce, 1401 Constitution Avenue NW, Washington, DC 20230; telephone: (202) 482-1678.

SUPPLEMENTARY INFORMATION:

Background

On October 29, 2002, Commerce published the antidumping duty order on wire rod from Mexico in the Federal Register.¹ On October 1, 2024, we published in the Federal Register a notice of opportunity to request an administrative review of the Order.² On November 14, 2024, pursuant to section 751(a)(1) of the Tariff Act of 1930, as amended (the Act), Commerce initiated an administrative review of the Order ³ on wire rod from Mexico covering the following nine ⁴ exporters/producers: ArcelorMittal Mexico S.A. de C.V. (AMM); Comercializadora Eloro S.A. (Comercializadora Eloro); Deacero S.A. de C.V./Deacero S.A.P.I. de C.V. (Deacero); Deacero Summit S.A.P.I. de C.V. (Deacero Summit); Grupo Villacero S.A. de C.V. (Villacero); Ingeteknos Estructurales S.A. (Ingeteknos); Optimatiks S.A. de C.V. (Optimatiks); TA 2000 S.A. de C.V. (TA 2000); and Ternium Mexico S.A. de C.V. (Ternium).

¹ See Notice of Antidumping Duty Orders: Carbon and Certain Alloy Steel Wire Rod from Brazil, Indonesia, Mexico, Moldova, Trinidad and Tobago, and Ukraine, 67 FR 65945 (October 29, 2002) (Order).

² See Antidumping or Countervailing Duty Order, Finding, or Suspended Investigation; Opportunity To Request Administrative Review and Join Annual Inquiry Service List, 89 FR 68098 (October 3, 2023).

³ See Initiation of Antidumping and Countervailing Duty Administrative Reviews, 89 FR 89955, 89958 (November 14, 2024) (Initiation Notice).

⁴ We note that the Initiation Notice shows that we initiated on eleven companies, which otherwise includes two entities that were collapsed in a prior proceeding and includes two additional entities with a minor spelling variation. See Initiation Notice; Memorandum, “Administrative Review of Antidumping Duty Order on Carbon and Certain Alloy Steel Wire Rod from Mexico; 2023-2024: Respondent Selection,” dated December 23, 2024 (Respondent Selection Memorandum); see also Carbon and Certain Alloy Steel Wire Rod from Mexico: Final Results and Partial Rescission of the Antidumping Duty Administrative Review; 2022-2023, 90 FR 36421 (August 4, 2025) (showing that in the prior administrative review, Commerce found TA 2000 to be the successor-in-interest to Talleres y Aceros S.A. de C.V. (Talleres y Aceros). As a result, and consistent with our prior determination, we continue to treat TA 2000 and Talleres y Aceros as one entity and therefore find that, for this proceeding, Commerce initiated on nine companies).

On December 9, 2024, Commerce tolled the deadline to issue the preliminary results in this administrative review by 90 days to October 1, 2025.⁵ On September 30, 2025, pursuant to section 751(a)(3)(A) of the Act, Commerce extended the time period for issuing the preliminary results of this review by an additional 30 days, until October 31, 2025.⁶ Due to the lapse in appropriations and Federal Government shutdown, on November 14, 2025, Commerce tolled all deadlines in administrative proceedings by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ On December 29, 2025, Commerce extended the time period for issuing the preliminary results of this review by an additional 30 days.⁹ Accordingly, the deadline for these preliminary results is now February 6, 2026.

⁵ See Memorandum, “Tolling of Deadlines for Antidumping and Countervailing Duty Proceedings,” dated December 9, 2024.

⁶ See Memorandum, “Extension of Deadline for Preliminary Results of Antidumping Duty Administrative Review,” dated September 30, 2025.

⁷ See Memorandum, “Deadlines Affected by the Shutdown of the Federal Government,” dated November 14, 2025.

⁸ See Memorandum, “Tolling of all Case Deadlines,” dated November 24, 2025.

⁹ See Memorandum, “Extension of Deadline for Preliminary Results of Antidumping Duty Administrative Review,” dated Decmber 29, 2025.

For a complete description of the events that followed the initiation of this review, see the Preliminary Decision Memorandum.¹⁰ A list of topics discussed in the Preliminary Decision Memorandum is attached as an appendix to this notice. The Preliminary Decision Memorandum is a public document and is on file electronically via ACCESS. ACCESS is available to registered users at https://access.trade.gov. In addition, a complete version of the Preliminary Decision Memorandum can be accessed directly at https://access.trade.gov/public/FRNoticesListLayout.aspx.

¹⁰ See Memorandum, “Decision Memorandum for the Preliminary Results and Partial Rescission of the Administrative Review of the Antidumping Duty Order on Carbon and Certain Alloy Steel Wire Rod from Mexico; 2023-2024,” dated concurrently with, and hereby adopted by, this notice (Preliminary Decision Memorandum).

Scope of the Order

The merchandise subject to the Order is wire rod, in coils, of approximately round cross section, 5.00 mm or more, but less than 19.00 mm, in solid cross-sectional diameter. A full description of the scope of the Order is contained in the Preliminary Decision Memorandum.

Partial Rescission of Review

As noted above, we initiated this review with respect to nine companies.¹¹ During the course of the review, we selected two mandatory respondents, Deacero and Deacero Summit.¹² Thus, there are seven companies upon which this review was requested, and which were not selected for individual examination: (1) AMM; (2) Comercializadora Eloro; (3) Villacero; (4) Ingeteknos; (5) Ternium; (6) Optimatiks; (7) and TA 2000.

¹¹ See Initiation Notice.

¹² See Respondent Selection Memorandum.

Pursuant to 19 CFR 351.213(d)(3), Commerce will rescind an administrative review when there are no reviewable suspended entries. Based on analysis of the U.S. Customs and Border Protection (CBP) information, seven companies listed in the Initiation Notice had no entries of subject merchandise during the POR, specifically: AMM; Commercialiazadora Eloro; Villacero; Ingeteknos; Optimatiks; TA 2000; and Ternium. On March 12, 2025, Commerce notified parties of its intent to rescind this administrative review with respect to the above-referenced seven companies that had no reviewable suspended entries during the POR.¹³ On March 24, 2025, Commerce received a request for clarification on our Intent to Rescind Memorandum from Deacero.¹⁴ On March 26, 2025, we notified parties of our intent to continue this administrative review with respect to Deacero and Deacero Summit, pursuant to 19 CFR 351.302(d).¹⁵ As a result, we are rescinding this review, in part, with respect to a total of seven companies, which are referenced above.¹⁶

¹³ See Commerce's Letter, “Notice of Intent to Rescind Review, In Part,” dated March 12, 2025 (Intent to Rescind Memorandum).

¹⁴ See Deacero's Letter, “Second Request for Clarification and Extension Request for Supplemental,” dated March 24, 2025.

¹⁵ See Memorandum, “Request for Extension of Deadline for Deacero S.A.P.I. de C.V. and Deacero Summit S.A.P.I. de C.V. to Submit its Response to Commerce's Supplemental Questionnaire,” dated March 26, 2025.

¹⁶ Id. (we note that TA 2000 and Talleres y Aceros are treated as one entity).

Methodology

Commerce is conducting this review in accordance with section 751(a)(1)(B) of the Act. Constructed export price was calculated in accordance with section 772(b) of the Act. Normal value was calculated in accordance with section 773 of the Act. For a full description of the methodology underlying our conclusions, see the Preliminary Decision Memorandum.

Preliminary Results of Review

As a result of this review, we preliminarily determine the following estimated weighted-average dumping margin exists for the POR: ¹⁷

¹⁷ Commerce preliminarily determines that Deacero and Deacero Summit are a single entity. See Preliminary Decision Memorandum; see also Memorandum, “Preliminary Affiliation and Collapsing Memorandum,” dated concurrently with this notice.

Producer/ exporter | Weighted-average dumping margin (percent)
Deacero S.A.P.I. de C.V./Deacero Summit S.A.P.I. de C.V | 15.97

Disclosure

Commerce intends to disclose its calculations and analysis performed to interested parties in these preliminary results within five days of any public announcement or, if there is no public announcement, within five days of the date of publication of this notice in the Federal Register, in accordance with 19 CFR 351.224(b).

Public Comment

Case briefs or other written comments may be submitted to the Assistant Secretary for Enforcement and Compliance. Pursuant to 19 CFR 351.309(c)(1)(ii), interested parties may submit case briefs no later than 21 days after the date of publication of this notice.¹⁸ Rebuttal briefs, limited to issues raised in the case briefs, may be filed no later than five days after the date for filing case briefs.¹⁹ Parties who submit case or rebuttal briefs in this proceeding must submit: (1) a table of contents listing each issue; and, (2) a table of authorities.²⁰

¹⁸ Commerce is exercising its discretion under 19 CFR 351.309(c)(1)(ii) to alter the time limit for the filing of case briefs. See 19 CFR 351.309(c)(1)(ii).

¹⁹ See 19 CFR 351.309(d); see also Administrative Protective Order, Service, and Other Procedures in Antidumping and Countervailing Duty Proceedings, 88 FR 67069, 67077 (September 29, 2023) (APO and Service Procedures).

²⁰ See 19 CFR 351.309(c)(2) and (d)(2).

As provided under 19 CFR 351.309(c)(2)(iii) and (d)(2)(iii), we request that interested parties provide at the beginning of their briefs a public, executive summary for each issue raised in their briefs.²¹ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²²

²¹ We use the term “issue” here to describe an argument that Commerce would normally address in a comment of the Issues and Decision Memorandum.

²² See APO and Service Procedures.

Interested parties who wish to request a hearing must submit a written request to the Assistant Secretary for Enforcement and Compliance, filed electronically via ACCESS and received successfully in its entirety by 5:00 p.m. Eastern Time within 30 days after the date of publication of this notice.²³ Requests should contain: (1) the party's name, address, and telephone number; (2) the number of participants and whether any participant is a foreign national; and (3) a list of issues to be discussed.. Issues raised in the hearing will be limited to those raised in the case and rebuttal briefs. If a request for a hearing is made, we will inform parties of the scheduled date for the hearing at a time and location to be determined.²⁴ Parties should confirm by telephone the date, time, and location of the hearing no fewer than two days before the scheduled date. Parties are reminded that all briefs and hearing requests must be filed electronically using ACCESS and received successfully in their entirety by 5:00 p.m. Eastern Time on the due date.

²³ See 19 CFR 351.310(c).

²⁴ See 19 CFR 351.310.

Assessment Rates

Pursuant to section 751(a)(2)(A) of the Act, upon issuance of the final results, Commerce will determine, and CBP shall assess, antidumping duties on all appropriate entries covered by this review.²⁵ If a respondent's weighted-average dumping margin is above de minimis in the final results of this review, we will calculate an importer-specific assessment rate based on the ratio of the total amount of dumping calculated for each importer's examined sales and the total entered value of the sales in accordance with 19 CFR 351.212(b)(1).²⁶ Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. If a respondent's weighted-average dumping margin or an importer-specific assessment rate is zero or de minimis in the final results of review, we will instruct CBP to liquidate the appropriate entries without regard to antidumping duties in accordance with the Final Modification for Reviews.²⁷

²⁵ See 19 CFR 351.212(b).

²⁶ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

²⁷ See Final Modification for Reviews, 77 FR at 8103; see also 19 CFR 351.106(c)(2).

In accordance with Commerce's “automatic assessment” practice, for entries of subject merchandise during the POR produced by each respondent which did not know that its merchandise was destined for the United States, we will instruct CBP to liquidate such entries at the all-others rate in the original less-than-fair-value (LTFV) investigation (i.e., 20.11 percent) ²⁸ if there is no rate for the intermediate company(ies) involved in the transaction.

²⁸ See Order, 67 FR at 65947.

The final results of this administrative review shall be the basis for the assessment of antidumping duties on entries of merchandise covered by the final results of this review and for future deposits of estimated duties, where applicable.²⁹ We intend to issue assessment instructions to CBP no earlier than 41 days after the date of publication of the final results of this review in the Federal Register, in accordance with 19 CFR 356.8(a).

²⁹ See section 751(a)(2)(C) of the Act.

For the companies for which this administrative review is rescinded, antidumping duties shall be assessed at a rate equal to the cash deposit of estimated antidumping duties required at the time of entry, or withdrawal from warehouse, for consumption, in accordance with 19 CFR 351.212(c)(1)(i). Commerce intends to issue assessment instructions for the seven companies listed in the “Partial Rescission of Review” section of this notice, above, to CBP no earlier than 41 days after the date of publication of this notice in the Federal Register, in accordance with 19 CFR 356.8(a).

Cash Deposit Requirements

The following cash deposit requirements for estimated antidumping duties will be effective upon publication of the notice of final results of this administrative review for all shipments of wire rod from Mexico entered, or withdrawn from warehouse, for consumption on or after the date of publication as provided by section 751(a)(2) of the Act: (1) the cash deposit rate for the firms listed above will be equal to the dumping margins established in the final results of this review, except if the ultimate rates are de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation but the producer is, then the cash deposit rate will be the rate established for the most recently completed segment of the proceeding for the producer of the merchandise; and (4) the cash deposit rate for all other producers or exporters will continue to be 20.11 percent, the all-others rate established in the LTFV investigation.³⁰ These cash deposit requirements, when imposed, shall remain in effect until further notice.

³⁰ See Order, 67 FR at 65947.

Final Results of Review

Unless the deadline is extended, we intend to issue the final results of this administrative review, which will include the results of our analysis of all issues raised in the case and rebuttal briefs, within 120 days of publication of these preliminary results in the Federal Register.³¹

³¹ See section 751(a)(3)(A) of the Act; and 19 CFR 351.213(h).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, 19 CFR 351.213(h)(2), and 19 CFR 351.221(b)(4).

Dated: February 6, 2026.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Rescission of Review, in Part

V. Affiliation And Single Entity Treatment

VI. Discussion of Methodology

VII. Currency Conversion

VIII. Recommendation

[FR Doc. 2026-02850 Filed 2-11-26; 8:45 am]

BILLING CODE 3510-DS-P